SMALL BUSINESS ADMINISTRATION

[Declaration of Economic Injury Disaster #9H52]

State of New York

Albany County and the contiguous counties of Columbia, Greene, Schoharie, Schenectady, Saratoga, and Rensselaer in the State of New York constitute an economic injury disaster loan area due to an embankment failure (landslide) that occurred on May 16, 2000 in the Town of Bethlehem, as a result of heavy rainfall. Eligible small businesses and small agricultural cooperatives without credit available elsewhere may file applications for economic injury assistance as a result of this disaster until the close of business on March 9, 2001 at the address listed below or other locally announced locations: U.S. Small Business Administration, Disaster Area 1 Office, 360 Rainbow Blvd, South, 3rd Floor, Niagara Falls, NY 14303.

The interest rate for eligible small businesses and small agricultural cooperatives is 4 percent.

(Catalog of Federal Domestic Assistance Program No. 59002)
Dated: June 9, 2000.
Kris Swedin,
Acting Administrator.

[FR Doc. 00-15423 Filed 6-16-00; 8:45 am]

BILLING CODE 8025-01-P